DEPARTMENT OF HEALTH AND HUMAN SERVICES

Health Resources and Services Administration

Maternal Health Research Collaborative for Minority-Serving Institutions Coordinating Center and Linking the Boston Birth Cohort and Pregnancy to Health Databases: A Longitudinal Cohort of Mother-Child Dyads

AGENCY: Health Resources and Services Administration (HRSA), Department of Health and Human Services.

ACTION: Notice of supplemental funding.

SUMMARY: HRSA administers the Maternal Health Research Collaborative for Minority-Serving Institutions (MH-RC-MSI) Coordinating Center (CC) grant using funding made available by the U.S. Department of Health and Human Services' Assistant Secretary for Planning and Evaluation from the Patient-Centered Outcomes Research Trust Fund. This Fund supports this multi-agency data linkage project to build further data capacity. The recipient of the MH-RC-MSI CC, Morgan State University, does not need to submit special documentation to establish eligibility. If this exception is not granted, Morgan State University will not have the funds to test the data linkage.

FOR FURTHER INFORMATION CONTACT: Evva Assing-Murray, Senior Health Scientist, Division of Research, Office of Epidemiology and Research, Maternal and Child Health Bureau, Health Resources and Services Administration, at EAssing-Murray@hrsa.gov or 301-594-4113.

SUPPLEMENTARY INFORMATION:

Intended Recipient of the Award: Morgan State University.

Amount of Non-Competitive Award: One award for $350,000.

Project Period: September 30, 2023, to September 29, 2028.

Assistance Listing Number: 93.110.

Award Instrument: Non-competitive single-source supplement.

Authority: 26 U.S.C. 9511(d)(2)(C).

Table 1 Recipient and Award Amount
Grant No. | Award recipient name | City, state | Award amount
UR5MC50340 | Morgan State University | Baltimore, MD | $350,000

Justification: This project will create a dataset with a broad array of data on biological, socio-economic, home and neighborhood environment, behavioral risk and protective factors, health services and expenses across the developmental and life stages. In addition, this project intends to make this novel dataset shareable to other researchers. This supplement will support testing the dataset, its user-friendliness, and the sharing process.

The MH-RC-MSI CC recipient is uniquely qualified to test and validate the data linkage and sharing process through use cases and research studies because:

• They have the current infrastructure and connections with sixteen HRSA funded MH-RC-MSI research centers to ensure coordinated testing and validation;

• They support numerous early-stage investigators through a mentorship program who can use the dataset to conduct research projects on maternal health;

• They have a record of successfully managing HRSA's Maternal and Child Health Bureau-funded projects that examine a broad range of adverse maternal health outcomes since 2023 and have consistently met goals and objectives.

These data linkage activities will run from September 2025 to July 2027, years 3 through 4 of the MSI project period. This is a new activity.

Thomas J. Engels,
Administrator.

[FR Doc. 2025-17025 Filed 9-4-25; 8:45 am]

BILLING CODE 4165-15-P